DEPARTMENT OF THE INTERIOR

Bureau of Land Management

[LLNV9230000 L13100000.FI0000; NVN-83789 et al; 10-08807; MO#4500013563; TAS: 14x1109]

Notice of Proposed Reinstatement of Terminated Oil and Gas Leases, Nevada

AGENCY: Bureau of Land Management, Interior.

ACTION: Notice of Proposed Reinstatement of Terminated Oil and Gas Lease.

SUMMARY: Under the provisions of the Mineral Lands Leasing Act of 1920, the Bureau of Land Management (BLM) received a petition for reinstatement from Heyser Gas Field, Inc., for competitive oil and gas leases NVN-83789, NVN-83790, NVN-85288, NVN-85299, NVN-85303, NVN-85318, NVN-85324, NVN-85325, NVN-85328, NVN-85332, NVN-85409, NVN-85410, NVN-85411, NVN-85416, NVN-85423, NVN-85424, NVN-85440, NVN-85446, and NVN-85518 for land in White Pine County, Nevada. The petition was timely filed and was accompanied by all the rentals due since the date the lease terminated under the law.

FOR FURTHER INFORMATION CONTACT: Atanda Clark, BLM Nevada State Office, 775-861-6632, or e-mail: Atanda_Clark@blm.gov.

SUPPLEMENTARY INFORMATION: The lessee has agreed to the amended lease terms for rental and royalties at rates of $5 per acre or fraction thereof, per year and 16⅔ percent, respectively. The lessee has paid the required $500 administrative fee for each lease and has reimbursed the Department for the cost of this Federal Register notice. The lessee has met all the requirements for reinstatement of the lease as set out in Sections 31(d) and (e) of the Mineral Leasing Act of 1920 (30 U.S.C. 188), and the BLM is proposing to reinstate the leases effective September 1, 2009, under the original terms and conditions of the leases and the increased rental and royalty rates cited above. The BLM has not issued a valid lease affecting the lands to any other interest in the interim.

Authority: 43 CFR 3108.2-3(a).

Gary Johnson,
Deputy State Director, Minerals Management.

[FR Doc. 2010-18218 Filed 7-23-10; 8:45 am]

BILLING CODE 4310-HC-P